DEPARTMENT OF THE INTERIOR

Fish and Wildlife Service

Notice of Issuance of Permit for Marine Mammals

On October 31, 2001, a notice was published in the Federal Register (66 FR 55003), that an application had been filed with the Fish and Wildlife Service by The Newark Museum for a permit (PRT-042580) to import one polar bear skin (as a full mount) and skull taken from the Southern Beaufort Sea population, Canada, for public display.

Notice is hereby given that on February 12, 2002, as authorized by the provisions of the Marine Mammal Protection Act of 1972, as amended (16 U.S.C. 1361 et seq.) the Fish and Wildlife Service authorized the requested permit subject to certain conditions set forth therein.

On November 15, 2001, a notice was published in the Federal Register (66 FR 57474), that an application had been filed with the Fish and Wildlife Service by Sherman J. Silber, MD for a permit (PRT-049529) to import one polar bear taken from the Lancaster Sound population, Canada, for personal use. The notice mistakenly omitted that the trophy was taken prior to April 30, 1994.

Notice is hereby given that on February 4, 2002, as authorized by the provisions of the Marine Mammal Protection Act of 1972, as amended (16 U.S.C. 1361 et seq.) the Fish and Wildlife Service authorized the requested permit subject to certain conditions set forth therein.

Documents and other information submitted for these applications are available for review by any party who submits a written request to the U.S. Fish and Wildlife Service, Division of Management Authority, 4401 North Fairfax Drive, Room 700, Arlington, Virginia 22203, telephone (703) 358-2104 or fax (703) 358-2281.

Dated: February 22, 2002.
Michael S. Moore,
Senior Permit Biologist, Branch of Permits, Division of Management Authority.

[FR Doc. 02-6730 Filed 3-19-02; 8:45 am]

BILLING CODE 4310-55-P